DEPARTMENT OF TRANSPORTATION

Federal Aviation Administration

Notice of Intent To Rule on Application To Impose and Use the Revenue From a Passenger Facility Charge (PFC) at Valdosta Regional Airport, Valdosta, GA

AGENCY: Federal Aviation Administration (FAA), DOT.

ACTION: Notice of intent to rule on application.

SUMMARY: The FAA proposes to rule and invites public comment on the application to impose and use the revenue from a PFC at Valdosta Regional Airport under the provisions of the Aviation Safety and Capacity Expansion Act of 1990 (Title IX of the Omnibus Budget Reconciliation Act of 1990) (Pub. L. 101-508) and part 158 of the Federal Aviation Regulations (14 CFR part 158).

DATES: Comments must be received on or before May 2, 2001.

ADDRESSES: Comments on this application may be mailed or delivered in triplicate to the FAA at the following address: Atlanta Airports District Office, Campus Building, 1701 Columbia Ave., Suite 2-260, College Park, GA 30337-2747.

In addition, one copy of any comments submitted to the FAA must be mailed or delivered to Robert A. Ator, Executive Director of the Valdosta-Lowndes County Airport Authority at the following address: Valdosta-Lowndes County Airport Authority, 1750 Airport Road, Suite 1, Valdosta, GA 31601.

Air carriers and foreign air carriers may submit copies of written comments previously provided to the Valdosta-Lowndes County Airport Authority under section 158.23 of part 158.

FOR FURTHER INFORMATION CONTACT: Rusty Nealis, Program Manager, Atlanta Airports District Office, 404-305-7142. The application may be reviewed in person at this same location.

SUPPLEMENTARY INFORMATION: The FAA proposes to rule and invites public comment on the application to impose and use the revenue from a PFC at Valdosta Regional Airport under the provisions of the Aviation Safety and Capacity Expansion Act of 1990 (Title IX of the Omnibus Budget Reconciliation Act of 1990) (Pub. L. 101-508) and part 158 of the Federal Aviation Regulations (14 CFR part 158).

On March 20, 2001, the FAA determined that the application to impose and use the revenue from a PFC submitted by Valdosta-Lowndes County Airport Authority was substantially complete within the requirements of section 158.25 of part 158. The FAA will approve or disapprove the application, in whole or in part, no later than July 4, 2001.

The following is a brief overview of the application.

PFC Application No.: 01-05-C-00-VLD.

Level of the proposed PFC: $4.50.

Proposed charge effective date: July 1, 2001.

Proposed charge expiration date: September 30, 2004.

Total estimated net PFC revenue: $408,926.

Brief description of proposed project(s):

Project No. 12 Master Plan

Project No. 13 Install Part 139 signage

Project No. 14 Install lighting on Airport Apron

Project No. 15 Paint Runway Marking

Project No. 16 Construct Aircraft Parking Apron for New Commercial Air Terminal

Project No. 17 Construct Partial Parallel Taxiway and Taxiway Stub

Project No. 18 Rehabilitate Runway Lighting Runway 17/35 and Replace Weather Reporting Equipment Cable

Project No. 19 Install Sliding Security Gates with Key Pads

Project No. 20 Approach Zone Obstruction Study

Project No. 21 Repair Drainage Problems

Project No. 22 Runway Hold Bar Marking

Project No. 23 Purchase of Passenger Lift Device

Project No. 24 Tree Removal around ASOS

Project No. 25 Preparation of PFC Applications

Project No. 26 RPZ Obstruction Clearing

Project No. 27 Overlay Taxiway “C”

Project No. 28 Overlay Taxiway “F”

Project No. 29 Replace Rotating Beacon

Project No. 30 Replace VASI with PAPI and install REILs on Runway 4/22

Project No. 31 Replace VASI with PAPI on Runway 17 and install PAPI on Runway 35

Project No. 32 Expand Terminal Parking Lot

Project No. 33 Construct Perimeter Road around North End of Runway 17/35

Project No. 34 Rehabilitate Taxiway “A”

Project No. 35 Rehabilitate General Aviation Apron

Project No. 36 Obtain Avigation or Fee Simple Easement off the ends of Runway 4/22

Project No. 37 Non-Precision Approach Runway Markings for Runway 4/22

Project No. 38 Expand Computer Apron

Project No. 39 Environmental Assessment for Runway 17 Extension

Project No. 40 Construct T-hangar Taxilane

Project No. 41 Extend Taxiway “M”

Class or classes of air carriers which the public agency has requested not be required to collect PFCs: Nonscheduled/On-Demand Air Carriers filing FAA form 1800-31 and Nonscheduled Large Certificated Route Air Carriers filing RSPA form T-100.

Any person may inspect the application in person at the FAA office listed above under FOR FURTHER INFORMATION CONTACT.

In addition, any person may, upon request, inspect the application, notice and other documents germane to the application in person at the Valdosta Regional Airport.

Issued in Atlanta, GA on March 20, 2001.
Scott L. Seritt,
Manager, Atlanta Airports District Office, Southern Region.

[FR Doc. 01-7954 Filed 3-30-01; 8:45 am]

BILLING CODE 4910-13-M